ENVIRONMENTAL PROTECTION AGENCY

[FRL-9217-3]

Science Advisory Board Staff Office; Notification of Two Public Teleconferences of the Clean Air Scientific Advisory Committee (CASAC) NOX & SOX Secondary NAAQS Review Panel and a Public Teleconference of the Chartered CASAC

AGENCY: Environmental Protection Agency (EPA).

ACTION: Notice.

SUMMARY: The Environmental Protection Agency (EPA) Science Advisory Board (SAB) Staff Office announces two public teleconferences of the Clean Air Scientific Advisory Committee NOX and SOx Secondary National Ambient Air Quality Standards (NAAQS) Review Panel (CASAC Panel) to continue its peer review of EPA's Policy Assessment for the Review of the Secondary National Ambient Air Quality Standards for NOX and SOX: Second External Review Draft (September 2010) and a teleconference for the chartered CASAC to review the Panel's draft report.

DATES: The CASAC Panel will hold a teleconference on November 9, 2010 from 1 p.m. to 4 p.m. (Eastern Time) and, if additional time is needed, on November 10, 2010 from 1 p.m. to 4 p.m. (Eastern Time). The chartered CASAC will hold a teleconference on December 6, 2010 from 10 a.m. to 11 a.m. to review the Panel's draft report.

ADDRESSES: The public teleconferences will be conducted by telephone only.

FOR FURTHER INFORMATION CONTACT: Any member of the public who wishes to submit a written or provide a brief oral statement or wants further information concerning the November 9 and 10, 2010 teleconferences may contact Dr. Angela Nugent, Designated Federal Officer (DFO), EPA Science Advisory Board (1400R), U.S. Environmental Protection Agency, 1200 Pennsylvania Avenue, NW., Washington, DC 20460; via telephone/voice mail (202) 564-2218; fax (202) 565-2098; or e-mail at nugent.angela@epa.gov. Any member of the public who wishes to submit a written or provide a brief oral statement or wants further information concerning the December 6, 2010 teleconference may contact Dr. Holly Stallworth, Designated Federal Officer (DFO), EPA Science Advisory Board (1400R), U.S. Environmental Protection Agency, 1200 Pennsylvania Avenue, NW., Washington, DC 20460; via telephone/voice mail (202) 564-2073; fax (202) 565-2098; or e-mail at nugent.angela@epa.gov. General information concerning the CASAC and the CASAC documents can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel will comply with the provisions of FACA and all appropriate SAB Staff Office procedural policies.

Pursuant to the Federal Advisory Committee Act (FACA), Public Law 92-463 5 U.S.C., App. 2, notice is hereby given that the CASAC NOX & SOX Secondary NAAQS Review Panel will hold a teleconference on November 9, 2010 from 1 p.m. to 4 p.m. (Eastern Time) and, if additional time is needed, on November 10, 2010 from 1 p.m. to 4 p.m. (Eastern Time) to continue its review of EPA's second draft Policy Assessment supporting development of secondary National Ambient Air Quality Standards (NAAQS) for NOX and SOX. The chartered CASAC will review the Panel's draft report on December 6, 2010, from 10 a.m. to 11 a.m. (Eastern Time) rather than on November 8, 2010 from 1 a.m. to 4 p.m. (75 FR 63471-63472), as previously announced.

The CASAC NOX & SOX Secondary NAAQS Review Panel held a public meeting on October 6-7, 2010 (75 FR 54871-54872) to review EPA's draft document entitled Policy Assessment for the Review of the Secondary National Ambient Air Quality Standards for NOX and SOX: Second External Review Draft (September 2010).

Background on the CASAC panel's advice and review of other EPA documents related to the secondary NAAQS review for NOX & SOX can be found on the CASAC Web site at http://yosemite.epa.gov/sab/sabproduct.nsf/WebProjectsbyTopicCASAC.

Technical Contacts: Any questions concerning EPA's Policy Assessment for the Review of the Secondary National Ambient Air Quality Standards for NOX and SOX: Second External Review Draft (September 2010) should be directed to Dr. Byran Hubbell, OAR, at (919) 541-0621 or hubbell.bryan@epa.gov.

Availability of Meeting Materials: EPA-OAR's Policy Assessment for the Review of the Secondary National Ambient Air Quality Standards for NOX and SOX: Second External Review Draft (September 2010) is accessible at http://www.epa.gov/ttn/naaqs/standards/no2so2sec/index.html. The agenda and other materials for the CASAC teleconference will be posted on the CASAC Web site at http://yosemite.epa.gov/sab/sabproduct.nsf/fedrgstr_activites/NOx%2FSOx%20Secondary%20NAAQS%20Review?OpenDocument.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: In general, individuals or groups requesting an oral presentation at a teleconference meeting will be limited to three minutes per speaker, with no more than a total of one hour for all speakers. Interested parties should contact Dr. Nugent at the contact information provided above by November 5, 2010, to be placed on the public speaker list for the teleconferences on November 9, 2010. Interested parties should contact Dr. Stallworth at the contact information provided above by December 2, 2010, to be placed on the public speaker list for the teleconferences on December 6, 2010. Written Statements: Written statements for the November teleconferences should be received by Dr. Nugent by November 5, 2010 so that the information can be made available to the Panel for their consideration prior to the teleconference call. Written statements for the December teleconference should be received by Dr. Stallworth by December 2, 2010. Written statements should be supplied to the appropriate DFO in the following formats: One hard copy with original signature and one electronic copy via e-mail (acceptable file format: Adobe Acrobat PDF, MS Word, WordPerfect, MS PowerPoint, or Rich Text files in IBM-PC/Windows 98/2000/XP format). Submitters are asked to provide versions of each November 5, 2010 document submitted with and without signatures, because the SAB Staff Office does not publish documents with signatures on its Web sites.

Accessibility: For information on access or services for individuals with disabilities, please contact Dr. Nugent or Dr. Stallworth, as appropriate, at the phone number or e-mail address noted above, preferably at least ten days prior to the meeting, to give EPA as much time as possible to process your request.

Dated: October 18, 2010.
Vanessa T. Vu,
Director, EPA Science Advisory Board Staff Office.

[FR Doc. 2010-26877 Filed 10-22-10; 8:45 am]

BILLING CODE 6560-50-P